TENNESSEE VALLEY AUTHORITY

Sunshine Act Meeting

Agency Holding the Meeting: Tennessee Valley Authority (Meeting No. 1531).

Time and Date: 2 p.m. (CDT), June 11, 2001.

Place: Von Braun Civic Center, 700 Monroe Street, Huntsville, Alabama.

Status: Open.

Agenda

Approval of minutes of meeting held on May 17, 2001.

New Business

B—Purchase Award

B1. Supplement to contract with Swift Industrial Power for batteries, racks, chargers, and accessories for Transmission/Power Supply and River System Operations and Environment.

B2. Supplement to Contract No. 00XFA-252730-0010 with Staples for office supplies/equipment and forms management.

B3. Supplement to Contract No. 99B4P-24442 with Meta-Power, Inc., for business process redesign consulting services.

C—Energy

C1. Supplement to Contract No. 99P5K-244546-002 with Thompson Machinery Company for equipment rental, repair parts, and repairs.

C2. Contract with Enron North America Corp. to design, manufacture, and deliver NOxTech equipment for designated TVA fossil plants.

C3. Supplement to Contract No. 00PYN-258769 with FLS Miljo to design, fabricate, and supply precipitator power supply transformer-rectifer sets, controls, and supervisory systems for Paradise Fossil Plant.

C4. Supplement to Contract No. 96X7C-108889-000 with ABB Automation, Inc., for genuine ABB automation spare parts, supplement equipment, engineered and assembled systems for system upgrades, services, and training for any TVA fossil plant.

E—Real Property Transactions

E1. Amendment to the Pickwick Reservoir Land Management Plan to change the allocated uses for a 16-acre portion of Tract No. XPR-460RE from management, navigation, and minor commercial landing to commercial recreation and forest management and sale of a 40-year commercial recreation easement affecting approximately 31 acres on Pickwick Reservoir in Tishomingo County, Mississippi.

E2. Deed modification of certain restrictions affecting approximately 0.09 acre of former TVA land on Chickamauga Reservoir, a portion of Tract No. XCR-92, in Hamilton County, Tennessee.

E3. Grant of a permanent easement for a gas pipeline to Duke Energy Gas Services Corporation, affecting approximately 4.1 acres, and temporary construction and road easements affecting approximately 0.2 acre of Cherokee Reservoir in Hawkins County, Tennessee, Tract No. XCK-584P.

E4. Grant of permanent easement to Duke Energy Marshall County, LLC, for a road, natural gas pipeline, and waterline, affecting approximately 0.70 acre of TVA land at the Marshall County, Kentucky, 500-kV Substation site in Marshall County, Kentucky, Tract No. XMAKSS-1E, Parcels 1 and 2.

Information Items

1. Supplement to Contract No. 95BQG-129888-001 with Wachovia Leasing for aircraft lease.

2. Implementation of the results of negotiations with the Engineering Association, Inc., over compensation for TVA annual and hourly employees.

FOR MORE INFORMATION CONTACT: Please call TVA Media Relations at (865) 632-6000, Knoxville, Tennessee. Information is also available at TVA's Washington Office (202) 898-2999. People who plan to attend the meeting and have special needs should call (865) 632-6000.

Dated: June 4, 2001.
Maureen H. Dunn,
General Counsel and Secretary.

[FR Doc. 01-14446 Filed 6-5-01; 10:30 am]

BILLING CODE 8120-08-M